DEPARTMENT OF HEALTH AND HUMAN SERVICES

National Institutes of Health

Establishment of the Board of Scientific Counselors, Division of Translational Toxicology, National Institute of Environmental Health Sciences

Pursuant to the Federal Advisory Committee Act, as amended (5 U.S.C. 1001-1014), the Director, National Institutes of Health (NIH) announces the establishment of the Board of Scientific Counselors, Division of Translational Toxicology, National Institute of Environmental Health Sciences, as authorized by 42 U.S.C. 282(b)(16), section 402(b)(16) of the Public Health Service Act, as amended.

The Director, NIH, has determined that the Board of Scientific Counselors, Division of Translational Toxicology, National Institute of Environmental Health Sciences is in the public interest in connection with the performance of duties imposed on NIH by law, and that these duties can best be performed through the advice and counsel of the committee.

The committee will review and evaluate the intramural program and the work of tenured, tenure track, and staff scientists and physicians and shall also, as requested by the Director, NIH, undertake peer review of extramural funding applications as required by section 492 of the Public Health Service Act, as amended.

Inquiries may be directed to Claire Harris, Director, Office of Federal Advisory Committee Policy, Office of the Director, National Institutes of Health, 6701 Democracy Boulevard, Suite 1000, Bethesda, Maryland 20892 (Mail code 4875), Telephone (301) 496-2123, or Claire.Harris@nih.gov.

Dated: November 13, 2023.
Monica M. Bertagnolli,
Director, National Institutes of Health.

[FR Doc. 2023-25472 Filed 11-16-23; 8:45 am]

BILLING CODE 4140-01-P